DEPARTMENT OF COMMERCE

International Trade Administration

[A-570-916]

Laminated Woven Sacks From the People's Republic of China: Final Results of Expedited First Sunset Review of the Antidumping Duty Order

AGENCY: Enforcement and Compliance, formerly Import Administration, International Trade Administration, Department of Commerce.

SUMMARY: On July 1, 2013, the Department of Commerce (the “Department”) initiated the first five-year (“sunset”) review of the antidumping duty order on laminated woven sacks from the People's Republic of China (“PRC”) pursuant to section 751(c) of the Tariff Act of 1930, as amended (the “Act”).¹ As a result of this sunset review, the Department finds that revocation of the antidumping duty order on laminated woven sacks from the PRC would be likely to lead to continuation or recurrence of dumping at the levels indicated in the “Final Results of Review” section of this notice.

¹ See Initiation of Five-Year (“Sunset”) Review, 78 FR 39256 (July 1, 2013).

DATES: Effective Date: October 29, 2013.

FOR FURTHER INFORMATION CONTACT: Irene Gorelik, AD/CVD Operations, Enforcement and Compliance, International Trade Administration, U.S. Department of Commerce, 14th Street and Constitution Avenue NW, Washington, DC 20230; telephone: (202) 482-6905.

SUPPLEMENTARY INFORMATION:

Background

On July 30, 2013, the Department received an adequate substantive response from domestic interested party Laminated Woven Sacks Committee (“Petitioner”) within the deadline specified in 19 CFR 351.218(d)(3)(i).² We received no responses from respondent interested parties. As a result, the Department conducted an expedited (120-day) sunset review of the order, pursuant to section 751(c)(3)(B) of the Act and 19 CFR 351.218(e)(1)(ii)(C)(2).

² See Petitioners' July 30, 2013, submission.

Analysis of Comments Received

All issues raised in this sunset review are addressed in the “Issues and Decision Memorandum for the Expedited First Sunset Review of the Antidumping Duty Order on Laminated woven sacks from the People's Republic of China” from Christian Marsh, Deputy Assistant Secretary for Antidumping and Countervailing Duty Operations, to Paul Piquado, Assistant Secretary for Enforcement and Compliance, dated concurrently with, and hereby adopted by, this notice (“Decision Memorandum”). The issues discussed in the Decision Memorandum include the likelihood of continuation or recurrence of dumping and the magnitude of the margins likely to prevail if the order was to be revoked. Parties may find a complete discussion of all issues raised in the review and the corresponding recommendations in this public memorandum which is on file electronically via Enforcement and Compliance's Antidumping and Countervailing Duty Centralized Electronic Services System (“IA ACCESS”). Access to IA ACCESS is available to registered users at http://iaaccess.trade.gov and is available to all parties in the Central Records Unit, room 7046 of the main Department of Commerce building. In addition, a complete version of the Decision Memorandum can be access directly on the Web at http://ia.ita.doc.gov/frn. The signed Decision Memorandum and the electronic versions of the Decision Memorandum are identical in content.

Scope of the Order

The merchandise covered by the order ³ is laminated woven sacks. Laminated woven sacks are bags or sacks consisting of one or more plies of fabric consisting of woven polypropylene strip and/or woven polyethylene strip, regardless of the width of the strip; with or without an extrusion coating of polypropylene and/or polyethylene on one or both sides of the fabric; laminated by any method either to an exterior ply of plastic film such as biaxially-oriented polypropylene (“BOPP”) or to an exterior ply of paper that is suitable for high quality print graphics.⁴ Effective July 1, 2007, laminated woven sacks are classifiable under Harmonized Tariff Schedule of the United States (“HTSUS”) subheadings 6305.33.0050 and 6305.33.0080. Laminated woven sacks were previously classifiable under HTSUS subheading 6305.33.0020.⁵ The HTSUS subheadings are provided for convenience and customs purposes only; the written product description of the scope of the order is dispositive.

³ See Notice of Antidumping Duty Order: Laminated Woven Sacks From the People's Republic of China, 73 FR 45941 (August 7, 2008) (“Order”).

⁴ See Decision Memorandum for a complete description of the Scope of the Order.

⁵ Additional HTSUS considerations apply. See Decision Memorandum.

Final Results of Review

We determine that revocation of the order would be likely to lead to continuation or recurrence of dumping at the following weighted-average percentage margins:

Exporter | Weighted-average dumping margin (percent)
Zibo Aifudi Plastic Packaging Co., Ltd. | 20.19
Polywell Plastic Product Factory | 20.19
Zibo Linzi Worun Packing Product Co., Ltd. | 20.19
Shandong Qikai Plastics Product Co., Ltd. | 20.19
Changle Baodu Plastic Co. Ltd. | 20.19
Zibo Linzi Shuaiqiang Plastics Co. Ltd. | 20.19
Zibo Linzi Qitianli Plastic Fabric Co. Ltd. | 20.19
Shandong Youlian Co. Ltd. | 20.19
Zibo Linzi Luitong Plastic Fabric Co. Ltd. | 20.19
Wenzhou Hotson Plastics Co. Ltd. | 20.19
Jiangsu Hotson Plastics Co. Ltd. | 20.19
Cangnan Color Make The Bag | 20.19
Zibo Qigao Plastic Cement Co. Ltd. | 20.19
PRC-Wide Entity (including Shandong Shouguang Jianyuanchun Co., Ltd. (“SSJ”); Han Shing Chemical Co., Ltd.; Ningbo Yong Feng Packaging Co., Ltd.; and Shandong Qilu Plastic Fabric Group, Ltd.) | 47.64

Administrative Protective Order

This notice also serves as the only reminder to parties subject to administrative protective order (“APO”) of their responsibility concerning the return or destruction of proprietary information disclosed under APO in accordance with 19 CFR 351.305. Timely notification of the return of destruction of APO materials or conversion to judicial protective order is hereby requested. Failure to comply with the regulations and terms of an APO is a violation which is subject to sanction.

This sunset review and notice are in accordance with sections 751(c), 752(c), and 777(i)(1) of the Act.

Dated: October 23, 2013.
Paul Piquado,
Assistant Secretary for Enforcement and Compliance.

[FR Doc. 2013-25601 Filed 10-28-13; 8:45 am]

BILLING CODE 3510-DS-P